DEPARTMENT OF HEALTH AND HUMAN SERVICES

National Institutes of Health

National Cancer Institute; Amended Notice of Meeting

Notice is hereby given of a change in the meeting of the President's Cancer Panel, October 22, 2007, 8 a.m. to October 22, 2007, 6:30 p.m., Hyatt Regency La Jolla, 3777 La Jolla Village Drive, San Diego, CA 92122 which was published in the Federal Register on September 26, 2007, 72 FR 54667.

This meeting is being amended to reschedule the closed session to Tuesday, October 30, 2007, 2 p.m.-4 p.m., as a telephone conference. The meeting is closed to the public.

Dated: October 5, 2007.
Jennifer Spaeth,
Director, Office of Federal Advisory Committee Policy.

[FR Doc. 07-5093 Filed 10-15-07; 8:45 am]

BILLING CODE 4140-01-M